DEPARTMENT OF TRANSPORTATION

Federal Aviation Administration

14 CFR Part 71

Airspace Docket No. 00-AAL-03

RIN 2120-AA66

Proposed Modification and Revocation of Federal Airways; Alaska

AGENCY: Federal Aviation Administration (FAA), DOT.

ACTION: Proposed rule; withdrawal.

SUMMARY: This action withdraws the proposed rule published in the Federal Register on June 28, 2000. In that action, the FAA proposed to modify two jet routes (J-115 and J-125); two Very High Frequency Omnidirectional Range (VOR) Federal airways (V-447 and V-436); and one Colored Federal Airway (A-15) in Alaska. The FAA has determined that withdrawal of the proposed rule is warranted since the FAA is no longer planning on decommissioning the Chandalar Lake Nondirectional Radio Beacon.

DATES: The proposed rule is withdrawn as of June 14, 2002.

FOR FURTHER INFORMATION CONTACT: Ken McElroy, Airspace and Rules Division, ATA-400, Office of Air Traffic Airspace Management, Federal Aviation Administration, 800 Independence Avenue, SW., Washington, DC 20591; telephone: (202) 267-8783.

SUPPLEMENTARY INFORMATION: On June 28, 2000, a notice of proposed rulemaking (NPRM) was published in the Federal Register proposing to amend 14 CFR part 71 by modifying two jet routes (J-115 and J-125); two Very High Frequency Omnidirectional Range (VOR) Federal airways (V-447 and V-436); and one Colored Federal Airway (A-15) in Alaska (65 FR 39833). Interested parties were invited to participate in the rulemaking process by submitting written data, views, or arguments regarding the proposal. No comments were received on the proposal.

List of Subjects in 14 CFR Part 71

Airspace, Incorporation by reference, Navigation (air).

The Withdrawal

In consideration of the foregoing, the Notice of Proposed Rulemaking, Airspace Docket No. 00-AAL-03, as published in the Federal Register on June 28, 2000 (65 FR 39833), is hereby withdrawn.

Authority: 49 U.S.C. 106(g), 40103, 40113, 40120; E.O. 10854; 24 FR 9565, 3 CFR, 1959-1963 Comp., p. 389.

Issued in Washington, DC, on June 4, 2002.
Reginald C. Matthews,
Manager, Airspace and Rules Division.

[FR Doc. 02-14688 Filed 6-13-02; 8:45 am]

BILLING CODE 4910-13-P